DEPARTMENT OF TRANSPORTATION

Federal Aviation Administration

14 CFR Part 39

[Docket No. FAA-2025-0614; Project Identifier MCAI-2025-00008-R; Amendment 39-23010; AD 2025-07-08]

RIN 2120-AA64

Airworthiness Directives; Airbus Helicopters

AGENCY: Federal Aviation Administration (FAA), DOT.

ACTION: Final rule; request for comments.

SUMMARY: The FAA is adopting a new airworthiness directive (AD) for all Airbus Helicopters Model AS332C, AS332C1, AS332L, and AS332L1 helicopters. This AD results from a report of the loss of the tail rotor pitch control due to a fracture of the tail rotor slide of the tail rotor head (TRH) assembly. This AD requires inspecting the slide of the control plate of the TRH assembly for any score, scratch, crack, or corrosion, removing corrosion and replacing the TRH assembly, slide of the control plate, or pitch control assembly if discrepancies are found, and reporting the results of the inspection. This AD prohibits installing an affected TRH assembly unless the actions of this AD are accomplished. All of these actions are specified in a European Union Aviation Safety Agency (EASA) AD, which is incorporated by reference. The FAA is issuing this AD to address the unsafe condition on these products.

DATES: This AD is effective April 25, 2025.

The Director of the Federal Register approved the incorporation by reference of a certain publication listed in this AD as of April 25, 2025.

The FAA must receive comments on this AD by May 27, 2025.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2025-0614; or in person at Docket Operations between 9 a.m. and 5 p.m., Monday through Friday, except Federal holidays. The AD docket contains this final rule, the mandatory continuing airworthiness information (MCAI), any comments received, and other information. The street address for Docket Operations is listed above.

Material Incorporated by Reference:

• For EASA material identified in this AD, contact EASA, Konrad-Adenauer-Ufer 3, 50668 Cologne, Germany; phone: +49 221 8999 000; email: ADs@easa.europa.eu; website: easa.europa.eu. You may find the EASA material on the EASA website at ad.easa.europa.eu.

• You may view this material at the FAA, Office of the Regional Counsel, Southwest Region, 10101 Hillwood Pkwy., Room 6N-321, Fort Worth, TX 76177. For information on the availability of this material at the FAA, call (817) 222-5110. It is also available at regulations.gov under Docket No. FAA-2025-0614.

FOR FURTHER INFORMATION CONTACT: Evan Weaver, Aviation Safety Engineer, FAA, 1600 Stewart Avenue, Suite 410, Westbury, NY 11590; phone: (316) 944-8910; email: evan.p.weaver@faa.gov.

SUPPLEMENTARY INFORMATION:

Comments Invited

The FAA invites you to send any written data, views, or arguments about this final rule. Send your comments to an address listed under ADDRESSES. Include “Docket No. FAA-2025-0614; Project Identifier MCAI-2025-00008-R” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Evan Weaver, Aviation Safety Engineer, FAA, 1600 Stewart Avenue, Suite 410, Westbury, NY 11590. Any commentary that the FAA receives which is not specifically designated as CBI will be placed in the public docket for this rulemaking.

Background

EASA, which is the Technical Agent for the Member States of the European Union, has issued EASA AD 2025-0001, dated January 6, 2025 (EASA AD 2025-0001) (also referred to as the MCAI), to correct an unsafe condition on Airbus Helicopters Model AS 332 C, AS 332 C1, AS 332 L, AS 332 L1 helicopters. The MCAI states there was a report of the loss of the tail rotor pitch control on an AS 332 L1 helicopter. An investigation discovered a fracture of the tail rotor slide of the TRH assembly. Due to their similarity in type design to the Model AS332L1 helicopters in the affected area, the FAA determined that the unsafe condition could also exist or develop on Airbus Helicopters Model AS332C, AS332C1, and AS332L helicopters. The unsafe condition, if not addressed, could result in structural failure of the TRH assembly and reduced or loss of control of the helicopter.

You may examine the MCAI in the AD docket at regulations.gov under Docket No. FAA-2025-0614.

Material Incorporated by Reference Under 1 CFR Part 51

EASA AD 2025-0001 specifies procedures for inspecting the slide of the control plate of the TRH assembly for any score, scratch, crack, or corrosion. Depending on the results of the inspection and the configuration of the helicopter (PRE MOD 0766205 OR POST MOD 0766205), EASA AD 2025-0001 specifies to remove corrosion and replace an affected part (TRH assembly as defined in EASA AD 2025-0001) with one repaired by Airbus Helicopters, replace the slide of the control plate of the TRH pitch assembly, or replace the pitch control assembly. Additionally, if any discrepancy is detected during the inspection, EASA AD 2025-0001 specifies reporting the results of the inspection to Airbus Helicopters. Lastly, EASA AD 2025-001 specifies that it is allowed to install an affected part on a helicopter provided that the affected part passes an inspection.

This material is reasonably available because the interested parties have access to it through their normal course of business or by the means identified in the ADDRESSES section.

FAA's Determination

These products have been approved by EASA and are approved for operation in the United States. Pursuant to the FAA's bilateral agreement with the European Union, EASA has notified the FAA about the unsafe condition described in its AD. The FAA is issuing this AD after evaluating all known relevant information and determining that the unsafe condition described previously is likely to exist or develop on other products of the same type design.

AD Requirements

This AD requires accomplishing the actions specified in EASA AD 2025-0001, described previously, as incorporated by reference, except for any differences identified as exceptions in the regulatory text of this AD.

Interim Action

The FAA considers this AD to be an interim action. The manufacturer is currently investigating the root cause of the unsafe condition identified in this AD. If final action is later identified, the FAA might consider further rulemaking to address this unsafe condition.

Explanation of Required Compliance Information

In the FAA's ongoing efforts to improve the efficiency of the AD process, the FAA developed a process to use some civil aviation authority (CAA) ADs as the primary source of information for compliance with requirements for corresponding FAA ADs. The FAA has been coordinating this process with manufacturers and CAAs. As a result, EASA AD 2025-0001 will be incorporated by reference in this FAA final rule. This AD therefore, requires compliance with EASA AD 2025-0001 in its entirety through that incorporation, except for any differences identified as exceptions in the regulatory text of this AD. Using common terms that are the same as the heading of a particular section in EASA AD 2025-0001 does not mean that operators need comply only with that section. For example, where the AD requirement refers to “all required actions and compliance times,” compliance with this AD requirement is not limited to the section titled “Required Action(s) and Compliance Time(s)” in EASA AD 2025-0001. Material referenced in EASA AD 2025-0001 for compliance is available at regulations.gov under Docket No. FAA-2025-0614.

Justification for Immediate Adoption and Determination of the Effective Date

Section 553(b) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that requires the immediate adoption of this AD without providing an opportunity for public comments prior to adoption. The FAA has found that the risk to the flying public justifies forgoing notice and comment prior to adoption of this rule because the affected components are part of an assembly that is critical to the control of a helicopter. The loss of the tail rotor pitch control has been reported, and an investigation revealed a fracture of the tail rotor slide. This unsafe condition may lead to a TRH assembly failure, which in turn can cause loss of control of the helicopter. Since this condition can result rapidly and without warning, the required actions must be done within 50 hours TIS, a time period of up to two months based on the average flight-hour utilization rates of these helicopters. However, a significant portion of these helicopters in the U.S. fleet are high usage helicopters, which have an increased likelihood of occurrence of a failure and will reach the compliance time within a period of approximately one week based on the average flight-hour utilization rates of these helicopters. These compliance times are shorter than the time necessary for the public to comment and for publication of the final rule. Accordingly, notice and opportunity for prior public comment are impracticable and contrary to the public interest pursuant to 5 U.S.C. 553(b).

In addition, the FAA finds that good cause exists pursuant to 5 U.S.C. 553(d) for making this amendment effective in less than 30 days, for the same reasons the FAA found good cause to forgo notice and comment.

Regulatory Flexibility Act

The requirements of the Regulatory Flexibility Act (RFA) do not apply when an agency finds good cause pursuant to 5 U.S.C. 553 to adopt a rule without prior notice and comment. Because the FAA has determined that it has good cause to adopt this rule without prior notice and comment, RFA analysis is not required.

Costs of Compliance

The FAA estimates that this AD affects 10 helicopters of U.S. registry. Labor rates are estimated at $85 per work-hour. Based on these numbers, the FAA estimates that operators may incur the following costs in order to comply with this AD.

Inspecting the TRH assembly will take 2 work-hours for an estimated cost of $170 per helicopter and $1,700 for the U.S. fleet.

If required, removing corrosion from the slide of the control plate of the TRH assembly will take 1 work-hour for an estimated cost of $85 per helicopter.

If required, replacing the slide of the control plate of the TRH assembly will take 6 work-hours and parts will cost $8,042 for an estimated cost of $8,552 per slide.

If required, replacing the TRH assembly will take 8 work-hours and parts will cost $248,932 for an estimated cost of $249,612 per TRH assembly.

If required, replacing the pitch control assembly will take 12 work-hours and parts will cost $30,000 for an estimated cost of $31,020 per pitch control assembly. If required, reporting the results of the inspection to the manufacturer takes 1 work-hour for an estimated cost of $85 per helicopter.

Paperwork Reduction Act

A federal agency may not conduct or sponsor, and a person is not required to respond to, nor shall a person be subject to a penalty for failure to comply with a collection of information subject to the requirements of the Paperwork Reduction Act unless that collection of information displays a currently valid OMB Control Number. The OMB Control Number for this information collection is 2120-0056. Public reporting for this collection of information is estimated to take approximately 1 hour per response, including the time for reviewing instructions, searching existing data sources, gathering and maintaining the data needed, and completing and reviewing the collection of information. All responses to this collection of information are mandatory. Send comments regarding this burden estimate or any other aspect of this collection of information, including suggestions for reducing this burden, to: Information Collection Clearance Officer, Federal Aviation Administration, 10101 Hillwood Parkway, Fort Worth, TX 76177-1524.

Authority for This Rulemaking

Title 49 of the United States Code specifies the FAA's authority to issue rules on aviation safety. Subtitle I, section 106, describes the authority of the FAA Administrator. Subtitle VII: Aviation Programs describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2025-07-08 Airbus Helicopters: Amendment 39-23010; Docket No. FAA-2025-0614; Project Identifier MCAI-2025-00008-R.

(a) Effective Date

This airworthiness directive (AD) is effective April 25, 2025.

(b) Affected ADs

None.

(c) Applicability

This AD applies to all Airbus Helicopters Model AS332C, AS332C1, AS332L, and AS332L1 helicopters. certificated in any category.

(d) Subject

Joint Aircraft System Component (JASC) Code 6420 Tail Rotor Head.

(e) Unsafe Condition

This AD was prompted by a report of the loss of the tail rotor pitch control. The FAA is issuing this AD to detect and address any score, scratch, crack, or corrosion on the slide of the control plate of the tail rotor head assembly. The unsafe condition, if not addressed, could result in structural failure of the tail rotor head assembly and reduced or loss of control of the helicopter.

(f) Compliance

Comply with this AD within the compliance times specified, unless already done.

(g) Requirements

Except as specified in paragraph (h) of this AD: Comply with all required actions and compliance times specified in, and in accordance with European Union Aviation Safety Agency (EASA) AD 2025-0001, dated January 6, 2025 (EASA AD 2025-0001).

(h) Exceptions to EASA AD 2025-0001

(1) Where EASA AD 2025-0001 requires compliance in terms of flight hours, this AD requires using hours time-in-service.

(2) Where EASA AD 2025-0001 refers to its effective date, this AD requires using the effective date of this AD.

(3) Where the material referenced in EASA AD 2025-0001 specifies discarding certain parts, this AD requires removing these parts from service.

(4) Where paragraph (3.1) of EASA AD 2025-0001 specifies replacing the TRH assembly with an assembly repaired in accordance with AH instructions, this AD requires replacement in accordance with a method approved by the Manager, International Validation Branch, FAA, or EASA, or Airbus Helicopters Design Organization Approval (DOA). If approved by the DOA, the approval must include the DOA authorized signature.

(5) Where the material referenced in EASA AD 2025-0001 specifies sending the TRH to Airbus Helicopters for replacement of the slide, this AD requires replacement in accordance with a method approved by the Manager, International Validation Branch, FAA, or EASA, or Airbus Helicopters DOA. If approved by the DOA, the approval must include the DOA authorized signature.

(6) Where paragraph (4) of EASA AD 2025-0001 states to submit inspection results to AH within 30 days after that inspection, for this AD, report inspection results at the applicable times specified in paragraph (h)(6)(i) or (ii) of this AD.

(i) For an inspection done on or after the effective date of this AD: Submit the report within 7 days after the inspection.

(ii) For an inspection done before the effective date of this AD: Submit the report within 7 days after the effective date of this AD.

(7) This AD does not adopt the “Remarks” section of EASA AD 2025-0001.

(i) Special Flight Permits

Special flight permits are prohibited.

Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (j) of this AD and email to: AMOC@faa.gov.

(2) Before using any approved AMOC, notify your appropriate principal inspector, or lacking a principal inspector, the manager of the local Flight Standards District Office/certificate holding district office.

(j) Additional Information

For more information about this AD, contact Evan Weaver, Aviation Safety Engineer, FAA, 1600 Stewart Avenue, Suite 410, Westbury, NY 11590; phone: (817) 222-5134; email: evan.weaver@faa.gov.

(k) Material Incorporated by Reference

(1) The Director of the Federal Register approved the incorporation by reference of the material listed in this paragraph under 5 U.S.C. 552(a) and 1 CFR part 51.

(2) You must use this material as applicable to do the actions required by this AD, unless the AD specifies otherwise.

(i) European Union Aviation Safety Agency (EASA) AD 2025-0001, dated January 6, 2025.

(ii) [Reserved]

(3) For EASA material identified in this AD, contact EASA, Konrad-Adenauer-Ufer 3, 50668 Cologne, Germany; phone: +49 221 8999 000; email: ADs@easa.europa.eu; website: easa.europa.eu. You may find the EASA material on the EASA website at ad.easa.europa.eu.

(4) You may view this material at the FAA, Office of the Regional Counsel, Southwest Region, 10101 Hillwood Pkwy., Room 6N-321, Fort Worth, TX 76177. For information on the availability of this material at the FAA, call (817) 222-5110.

(5) You may view this material at the National Archives and Records Administration (NARA). For information on the availability of this material at NARA, visit www.archives.gov/federal-register/cfr/ibr-locations or email fr.inspection@nara.gov.

Issued on April 4, 2025.
Paul R. Bernado,
Acting Director, Compliance & Airworthiness Division, Aircraft Certification Service.

[FR Doc. 2025-06120 Filed 4-7-25; 11:15 am]

BILLING CODE 4910-13-P